INTERNATIONAL TRADE COMMISSION

[Investigation Nos. 731-TA-703 and 705 (Second Review)]

Furfuryl Alcohol From China and Thailand

Determinations

On the basis of the record ¹ developed in the subject five-year reviews, the United States International Trade Commission (Commission) determines, pursuant to section 751(c) of the Tariff Act of 1930 (19 U.S.C. 1675(c)) (the Act), that revocation of the antidumping duty orders on furfuryl alcohol from China and Thailand would be likely to lead to continuation or recurrence of material injury to an industry in the United States within a reasonably foreseeable time.

¹ The record is defined in sec. 207.2(f) of the Commission's Rules of Practice and Procedure (19 CFR 207.2(f)).

Background

The Commission instituted these reviews on April 3, 2006 (71 FR 16587) and determined on July 7, 2006 that it would conduct expedited reviews (71 FR 41469, July 21, 2006). Notice of the scheduling of the Commission's reviews was given by posting copies of the notice in the Office of the Secretary, U.S. International Trade Commission, Washington, DC, and by publishing the notice in the Federal Register on July 21, 2006 (71 FR 41469).

The Commission transmitted its determinations in these reviews to the Secretary of Commerce on September 15, 2006. The views of the Commission are contained in USITC Publication 3885 (September 2006), entitled Furfuryl Alcohol from China and Thailand: Investigation Nos. 731-TA-703 and 705 (Second Review).

Issued: September 20, 2006.
By order of the Commission.
Marilyn R. Abbott,
Secretary to the Commission.

[FR Doc. 06-8170 Filed 9-22-06; 8:45 am]

BILLING CODE 7020-02-P